DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Coastal Household Telephone Survey.

OMB Control Number: 0648-xxxx.

Form Number(s): NA.

Type of Request: Regular (request for a new information collection).

Number of Respondents: 228,000.

Average Hours per Response: 2 minutes.

Burden Hours: 7,600.

Needs and Uses: This request is for a new information collection.

Marine recreational anglers are surveyed for catch and effort data, fish biology data, and angler socioeconomic characteristics. These data are required to carry out provisions of the Magnuson-Stevens Fishery Conservation and Management Act (16 U.S.C. 1801 et seq.), as amended, regarding conservation and management of fishery resources.

The Coastal Household Telephone Survey (CHTS) utilizes a computer-assisted, random-digit-dialing (RDD) approach to contact full-time, residential households located in coastal counties and collect information about recent recreational fishing activity. Respondents are asked to recall the number of recreational saltwater fishing trips taken during a specific time period and to provide details about each fishing trip. Data collected from the CHTS are used to estimate the total number of recreational saltwater fishing trips by residents of coastal counties. CHTS estimates are combined with estimates derived from an independent survey, the Access-Point Angler Intercept Survey (APAIS), to estimate total, state-level fishing effort and catch, by species. These estimates are used in the development, implementation, and monitoring of fishery management programs by the NMFS, regional fishery management councils, interstate marine fisheries commissions, and state fishery agencies.

Affected Public: Individuals or households.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: September 16, 2014.
Gwellnar Banks,
Management Analyst, Office of the Chief Information Officer.

[FR Doc. 2014-22449 Filed 9-19-14; 8:45 am]

BILLING CODE 3510-22-P